DEPARTMENT OF COMMERCE

Foreign-Trade Zones Board

[B-56-2022]

Foreign-Trade Zone (FTZ) 219—Yuma, Arizona, Notification of Proposed Production Activity Barco Stamping Co. Inc. (Stamped Metal Products), Yuma, Arizona

The Greater Yuma Economic Development Corporation, grantee of FTZ 219, submitted a notification of proposed production activity to the FTZ Board (the Board) on behalf of Barco Stamping Co. Inc., located in Yuma, Arizona. The notification conforming to the requirements of the Board's regulations (15 CFR 400.22) was received on November 22, 2022.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: electrical switch enclosure doors; electrical enclosures; A/C disconnect enclosure doors; various bracketry (steering columns; engine mounts; seating); ballast chassis; and, various lighting products (can blanks; plaster frames; U-sections; hanger bars; socket plates; junction boxes; junction box covers; can tops; heat sinks; wall mounts) (duty rate ranges from duty-free to 6%).

The proposed foreign-status materials and components include various coil (aluminum; galvanized; stainless steel; prepainted galvanized steel; prepainted aluminum) (duty rate ranges from duty-free to 3%). The request indicates that certain materials/components are subject to duties under section 232 of the Trade Expansion Act of 1962 (section 232) or section 301 of the Trade Act of 1974 (section 301), depending on the country of origin. The applicable section 232 and section 301 decisions require subject merchandise to be admitted to FTZs in privileged foreign status (19 CFR 146.41).

Public comment is invited from interested parties. Submissions shall be addressed to the Board's Executive Secretary and sent to: ftz@trade.gov. The closing period for their receipt is January 9, 2023.

A copy of the notification will be available for public inspection in the “Online FTZ Information System” section of the Board's website.

For further information, contact Juanita Chen at juanita.chen@trade.gov.

Dated: November 23, 2022.
Andrew McGilvray,
Executive Secretary.

[FR Doc. 2022-26023 Filed 11-28-22; 8:45 am]

BILLING CODE 3510-DS-P